SMALL BUSINESS ADMINISTRATION

Reporting and Recordkeeping Requirements Under Office of Management and Budget Review

AGENCY: U.S. Small Business Administration.

ACTION: 30-Day notice; request for comments.

SUMMARY: The Small Business Administration (SBA) will submit the information collection described below to the Office of Management and Budget (OMB) for review and clearance in accordance with the Paperwork Reduction Act of 1995, as amended, on or after the date of publication of this notice. SBA is publishing this notice to allow all interested members of the public an additional 30 days to provide comments on the collection of information.

DATES: Submit comments on or before March 23, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number, which are provided below.

FOR FURTHER INFORMATION CONTACT: You may obtain information including a copy of the forms and supporting documents from the Interim Agency Clearance Officer, Shauniece Carter, at (202) 205-6536, or shauniece.carter@sba.gov, or from www.reginfo.gov/public/do/PRAMain.

SUPPLEMENTARY INFORMATION: Small Business Administration (SBA) regulations require that we determine that participating Certified Development Company's, Non-Bank Lender Institution's, or Microlender's management, ownership, etc. is of “good character”. To do so requires the information requested on the SBA Form 1081. This form also provides data used to determine the qualifications and capabilities of the lender's key personnel.

Summary of Information Collection

Title: Statement of Personal History.

OMB Control Number: 3245-0080.

Form Number: SBA Form 1081.

Description of Respondents: Certified Development Companies, Non-Bank Lender Institutions, Small Business Lending Companies, or Microlenders.

Estimated Number of Respondents: 146.

Estimated Annual Responses: 146.

Estimated Annual Hour Burden: 73.

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

Shauniece Carter,
Interim Agency Clearance Officer.

[FR Doc. 2026-03269 Filed 2-18-26; 8:45 am]

BILLING CODE 8026-09-P